DEPARTMENT OF COMMERCE

International Trade Administration

[A-533-871]

Finished Carbon Steel Flanges From India: Final Results of Antidumping Duty Administrative Review; 2020-2021

AGENCY: Enforcement and Compliance, International Trade Administration, Department of Commerce.

SUMMARY: The U.S. Department of Commerce (Commerce) determines that producers and/or exporters subject to this administrative review made sales of subject merchandise at less than normal value (NV) during the period of review (POR) August 1, 2020, through July 31, 2021.

DATES: Applicable March 14, 2023.

FOR FURTHER INFORMATION CONTACT: Fred Baker or Preston Cox, AD/CVD Operations, Office VI, Enforcement and Compliance, International Trade Administration, U.S. Department of Commerce, 1401 Constitution Avenue NW, Washington, DC 20230; telephone: (202) 482-2924 or (202) 482-5041, respectively.

SUPPLEMENTARY INFORMATION:

Background

On August 24, 2017, Commerce published in the Federal Register the antidumping duty (AD) order on finished carbon steel flanges from India.¹ On September 8, 2022, Commerce published the Preliminary Results of this administrative review in the Federal Register.² We invited interested parties to comment on the Preliminary Results.³ Between October 11 and 18, 2022, interested parties submitted case and rebuttal briefs.⁴ On December 21, 2022, we extended the deadline for these final results until March 7, 2022.⁵ This administrative review covers 41 producers and/or exporters of the subject merchandise.⁶ Commerce selected R.N. Gupta & Co. Ltd. (RNG) and Norma Group ⁷ for individual examination. The producers/exporters not selected for individual examination are referenced in the “Final Results of Administrative Review” section below and listed in Appendix II of this notice. For a complete description of the events that followed the Preliminary Results, see the Issues and Decision Memorandum.⁸ Commerce conducted this administrative review in accordance with section 751 of the Tariff Act of 1930, as amended (the Act).

¹ See Finished Carbon Steel Flanges from India and Italy: Antidumping Duty Orders, 82 FR 40136 (August 24, 2017) (Order).

² See Finished Carbon Steel Flanges from India: Preliminary Results of Antidumping Duty Administrative Review; 2020-2021, 87 FR 54957 (September 8, 2022) (Preliminary Results), and accompanying Preliminary Decision Memorandum (PDM).

³ See Preliminary Results, 87 FR at 54958.

⁴ See Weldbend Corporation's Letter, “Petitioner's Case Brief,” dated October 11, 2022; R.N. Gupta & Co. Ltd.'s Letter, “Rebuttal Brief of R.N. Gupta & Company Limited,” dated October 18, 2022; and Norma (India) Limited's Letter, “Rebuttal Brief of Norma (India) Limited and its Affiliates,” dated October 18, 2022.

⁵ See Memorandum, “Extension of Deadline for Final Results,” dated December 21, 2022.

⁶ See Initiation of Antidumping and Countervailing Duty Administrative Reviews, 86 FR 55811 (October 7, 2021). Commerce initiated on “Uma Shanker Khandelwal & Co.” and “UmaShanker Khandelwal and Co.” based on the requests for administrative review that Commerce received from interested parties. Because of the minor differences in the spelling of these company names, we combined them under the name Uma Shanker Khandelwal & Co.

⁷ Commerce continues to treat Norma (India) Limited, USK Exports Private Limited, Uma Shanker Khandelwal & Co., and Bansidhar Chiranjilal (collectively, Norma Group) as a collapsed single entity for the final results of this administrative review. See Preliminary Results PDM at 1; see also Finished Carbon Steel Flanges from India: Final Results of Antidumping Duty Administrative Review; 2019-2020, 87 FR 13701 (March 10, 2022).

⁸ See Memorandum, “Issues and Decision Memorandum for the Final Results of the Administrative Review of the antidumping Duty Order on Finished Carbon Steel Flanges from India; 2020-2021,” dated concurrently with, and hereby adopted by, this notice (Issues and Decision Memorandum).

Scope of the Order

The merchandise covered by the Order is finished carbon steel flanges. For a complete description of the scope of the Order, see the Issues and Decision Memorandum.

Analysis of Comments Received

All issues raised in the case and rebuttal briefs filed by interested parties in this review are discussed in the Issues and Decision Memorandum. A list of the issues which parties raised, and to which we responded in the Issues and Decision Memorandum, is attached as Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and our analysis of the comments received, Commerce made certain changes to the Preliminary Results. For detailed information, see the Issues and Decision Memorandum.

Rate for Non-Selected Respondents

The Act and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted average dumping margins established for exporters and producers individually investigated, excluding any zero or de minimis margins, and any margins determined entirely {on the basis of facts available}.”

In this administrative review, we preliminarily calculated weighted-average dumping margins for RNG and Norma Group that are not zero, de minimis (i.e., less than 0.5 percent), or determined entirely on the basis of facts available. For these final results, we continue to calculate weighted-average dumping margins for RNG and Norma Group that are not zero, de minimis, or determined entirely on the basis of facts available. Accordingly, Commerce is assigning to the companies not individually examined, listed in Appendix II, a margin of 0.84 percent, which is the weighted average of RNG's margin and Norma Group's margin based on publicly ranged data.⁹

⁹ See Memorandum, “Calculation of Margin for Respondents Not Selected for Individual Examination,” dated concurrently with this notice.

Final Results of Administrative Review

For these final results, we determine that the following weighted-average dumping margins exist for the period August 1, 2020, through July 31, 2021:

¹⁰ See Appendix II for a list of companies not selected for individual examination.

Producer/exporter | Weighted- average dumping margin (percent)
R.N. Gupta & Co. Ltd | 0.73
Norma (India) Limited/USK Export Private Limited/Uma Shanker Khandelwal & Co./Bansidhar Chiranjilal | 1.00
Non-Selected Companies ¹⁰ | 0.84

Disclosure

Commerce intends to disclose the calculations performed for these final results to parties in this proceeding within five days of the date of publication of this notice in the Federal Register, in accordance with 19 CFR 351.224(b).

Assessment Rates

Pursuant to section 751(a)(2)(C) of the Act and 19 CFR 351.212(b)(1), Commerce shall determine and CBP shall assess antidumping duties on all appropriate entries of subject merchandise in accordance with the final results of this review. For RNG and Norma Group, we calculated importer-specific assessment rates on the basis of the ratio of the total amount of dumping calculated for each importer's examined sales and the total entered value of those sales in accordance with 19 CFR 351.212(b)(1). Where an importer-specific assessment rate is zero or de minimis, the entries by that importer will be liquidated without regard to antidumping duties. For entries of subject merchandise during the POR produced by RNG or Norma Group for which the producer did not know its merchandise was destined for the United States, we will instruct CBP to liquidate unreviewed entries at the all-others rate in the less-than-fair-value investigation if there is no rate for the intermediate company(ies) involved in the transaction.¹¹ For the companies identified in Appendix II that were not selected for individual examination, we will instruct CBP to liquidate entries at the rates established in these final results of review.

¹¹ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of these final results of administrative review for all shipments of the subject merchandise entered, or withdrawn from warehouse, for consumption on or after the publication date, as provided by section 751(a)(2)(C) of the Act: (1) the cash deposit rate for companies subject to this review will be equal to the company-specific weighted-average dumping margin established in the final results of this administrative review; (2) for merchandise exported by a company not covered in this review but covered in a prior segment of the proceeding, the cash deposit rate will continue to be the company-specific rate published in the completed segment for the most recent period; (3) if the exporter is not a firm covered in this review, a prior review, or the less-than-fair-value investigation, but the producer is, then the cash deposit rate will be the rate established in the most recently completed segment of the proceeding for the producer of the merchandise; and (4) the cash deposit rate for all other producers or exporters will continue to be 8.91 percent, the all-others rate established in the less-than-fair-value investigation.¹² These cash deposit requirements, when imposed, shall remain in effect until further notice.

¹² See Order, 82 FR at 40138.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

These final results of review are issued and published in accordance with sections 751(a)(1) and 777(i)(1) of the Act, and 19 CFR 351.221(b)(5).

Dated: March 7, 2023.
Lisa W. Wang,
Assistant Secretary for Enforcement and Compliance.

Appendix I

List of Topics Discussed in the Issues and Decision Memorandum

I. Summary

II. Background

III. Scope of the Order

IV. Changes since the Preliminary Results

V. Discussion of the Issues

Comment 1: Constructed Value Profit and Indirect Selling Expenses

Comment 2: Norma Group's Interest Expenses

Comment 3: Operating Expenses Related to RNG's Affiliates

Comment 4: Calculation of RNG's Interest Expense Ratio

VI. Recommendation

Appendix II

List of Companies Not Selected for Individual Examination

1. Adinath International

2. Allena Group

3. Alloyed Steel

4. Balkrishna Steel Forge Pvt. Ltd.

5. Bebitz Flanges Works Private Limited ¹³

¹³ See Finished Carbon Steel Flanges from India: Notice of Initiation and Preliminary Results of Changed Circumstances Review, 87 FR 34251 (June 6, 2022), and accompanying Preliminary Decision Memorandum at 4, unchanged in Finished Carbon Steel Flanges from India: Final Results of Changed Circumstances Review, 87 FR 44337 (July 26, 2022). On July 26, 2022, Commerce published the final results of an antidumping duty changed circumstances review of Finished Carbon Steel Flanges from India. Commerce found that BFN Forgings Private Limited (BFN) is the successor-in-interest to Bebitz Flanges Works Private Limited (Bebitz). Effective August 14, 2020, Bebitz changed its name to BFN, which is during the POR. Cash deposits of estimated antidumping duties required pursuant to the final results of this review will be applied to BFN. Commerce intends to instruct CBP to liquidate entries made during the POR by Bebitz, and entries made after August 14, 2020, by BFN, at the rates established in these final results of review.

6. C. D. Industries

7. Cetus Engineering Private Limited

8. CHW Forge

9. CHW Forge Pvt. Ltd.

10. Citizen Metal Depot

11. Corum Flange

12. DN Forge Industries

13. Echjay Forgings Limited

14. Falcon Valves and Flanges Private Limited

15. Heubach International

16. Hindon Forge Pvt. Ltd.

17. Jai Auto Pvt. Ltd.

18. Kinnari Steel Corporation

19. Mascot Metal Manufacturers

20. M F Rings and Bearing Races Ltd.

21. Munish Forge Private Limited

22. OM Exports

23. Punjab Steel Works

24. Raaj Sagar Steels

25. Ravi Ratan Metal Industries

26. R. D. Forge

27. Rolex Fittings India Pvt. Ltd.

28. Rollwell Forge Engineering Components and Flanges

29. Rollwell Forge Pvt. Ltd.

30. SHM (ShinHeung Machinery)

31. Siddhagiri Metal & Tubes

32. Sizer India

33. Steel Shape India

34. Sudhir Forgings Pvt. Ltd.

35. Tirupati Forge Pvt. Ltd.

36. Umashanker Khandelwal Forging Limited

[FR Doc. 2023-05149 Filed 3-13-23; 8:45 am]

BILLING CODE 3510-DS-P